DEPARTMENT OF TRANSPORTATION

ITS Joint Program Office; Human Factors for IntelliDrive ℠ (HFID); Public Meeting; Notice of Public Meeting

AGENCY: Research and Innovative Technology Administration, U.S. Department of Transportation.

ACTION: Notice.

The U.S. Department of Transportation ITS Joint Program Office (ITS JPO) and the National Highway Transportation Safety Administration (NHTSA) will host a free public meeting to discuss the Human Factors for IntelliDrive (HFID) program on January 6, 2011 from 10 a.m. to 5:30 p.m. at the Flamingo Las Vegas, 3555 Las Vegas Boulevard South Las Vegas, Nevada 89109.

IntelliDrive is a research program under development that will allow vehicles to communicate wirelessly with other vehicles and the surrounding infrastructure, such as traffic signals and work zones. The program has the potential to significantly reduce vehicle crashes, enhance mobility and improve the environment. One of the supporting research programs is Human Factors for IntelliDrive (HFID), a program aimed at understanding the effects of providing drivers with critical safety warning messages. The vision of the HFID research is to address the number of new, competing visual and audible stimuli that put demands on a driver's attention. The goal of the program is to develop guidelines to ensure future IntelliDrive interfaces are effective without increasing distraction. The HFID program will support all of the IntelliDrive applications—safety, mobility, and sustainability—for multiple vehicle types to include: passenger vehicles, passenger transit vehicles, and heavy trucks.

At this meeting, ITS JPO and NHTSA will provide an overview of the entire Human Factors for IntelliDrive program, including Vehicle to Vehicle (V2V) communication and Vehicle to Infrastructure (V2I) communication, heavy truck-related research, and environmental research related IntelliDrive. The presenters will also cover each of the five HFID research tracks and then lead a discussion to facilitate the exchange of ideas with stakeholders. The feedback obtained during the meeting will be considered for the current program and future HFID projects.

Registration will be available on-site. For additional questions, please contact Nicole Oliphant at noliphant@itsa.org or 202-721-4215.

Issued in Washington, DC, on the 22nd day of December 2010.
John Augustine,
Managing Director, ITS Joint Program Office.

[FR Doc. 2010-32875 Filed 12-28-10; 8:45 am]

BILLING CODE 4910-HY-P